NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 8, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301)713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too, includes information about the records. Further information about the disposition process is available on request.

Schedules Pending

1. Department of Defense, Office of the Inspector General (N1-509-00-6, 15 items, 15 temporary items). Correspondence files relating to administration, planning and management, auditing, investigations, and inspections. Also included are electronic copies of documents created using word processing and electronic mail.

2. Department of Defense, Defense Logistics Agency (N1-361-98-3, 5 items, 4 temporary items). Records relating to organization and functions evaluations, including Department of Defense Inspector General evaluation and audit records, General Accounting Office reports, and other evaluation records. Also included are electronic copies of documents created using electronic mail and word processing. Recordkeeping copies of master sets of evaluation policy development and implementation records are proposed for permanent retention.

3. Department of Energy, Pittsburgh Naval Reactors Office (N1-434-99-3, 18 items, 18 temporary items). Paper, electronic, and microform records relating to naval nuclear reactor research and the shipment of nuclear reactor materiel. Included are reports, correspondence, test records, bills of lading, escort logs, and radiological surveys. Also included are electronic copies of records created using electronic mail and word processing. Records relating to significant research and development projects were previously approved for permanent retention.

4. Department of Housing and Urban Development, Agency-wide (N1-207-99-1, 9 items, 3 temporary items). Audit case files, including correspondence, memoranda, work papers, and electronic copies of records created using electronic mail and word processing. Significant audit files will be evaluated for permanent retention on a case by case basis. Records proposed for permanent retention date from the period 1954-1977 and include files that relate to such matters as projects in small towns, equal housing opportunity programs, new community programs, and metropolitan and suburban development.

5. Department of Housing and Urban Development, Office of Federal Housing Enterprise Oversight (N1-543-00-1, 23 items, 22 temporary items). Records accumulated by the Office of Information Technology. Included are such records as electronic records systems used to maintain information concerning agency files in all media, information security program files, chronological files of correspondence with the Federal National Mortgage Association, financial submissions in paper and electronic formats from government-sponsored enterprises, files relating to the operation of agency local area networks, and an electronic system containing data on assets and liabilities of government-sponsored enterprises. Also included are electronic copies of records created using electronic mail and word processing. Agency directives, operating manuals, and other procedural issuances are proposed for permanent retention.

6. Department of Housing and Urban Development, Office of Federal Housing Enterprise Oversight (N1-543-00-2, 10 items, 7 temporary items). Records of the Office of General Counsel. Included are such records as an electronic tracking system used to check the status of ongoing projects and cases, legal opinions and subject files relating to routine or inconsequential matters, and electronic copies of documents created using electronic mail and word processing. Recordkeeping copies of significant legal opinions, subject files pertaining to substantive matters, and public rulemaking files are proposed for permanent retention.

7. Department of Housing and Urban Development, Office of Federal Housing Enterprise Oversight (N1-543-00-3, 2 items, 2 temporary items). Assessment calculation files relating to semi-annual assessments of government-sponsored enterprises for funds appropriated to the agency from Congress. Included are electronic copies of documents created using electronic mail and word processing.

8. Department of Housing and Urban Development, Office of Federal Housing Enterprise Oversight (N1-543-00-4, 7 items, 5 temporary items). Records of the Office of Policy Analysis and Research relating to the compensation received by government-supported enterprise executives and to requests for information concerning agency Notices of Proposed Rulemaking. Also included are electronic copies of documents created using electronic mail and word processing. Recordkeeping copies of subject files and quarterly reports to the Department of Housing and Urban Development are proposed for permanent retention.

9. Department of Justice, Federal Bureau of Prisons (N1-129-00-2, 4 items, 4 temporary items). Special Investigative Supervisor program records. Included are files on inmates requiring close observation, memoranda documenting incidental staff contact with released inmates, photographs of inmates, and electronic copies of documents created using electronic mail and word processing.

10. Department of Justice, Federal Bureau of Prisons (N1-129-00-6, 9 items, 9 temporary items). Case management records that include such files as inmate monitoring logs, paper and electronic pay records, telephone system records, listings of inmates housed separately from the general population, staff meeting minutes, and victim and witness logs. Also included are electronic copies of documents created using electronic mail and word processing.

11. Department of Justice, Federal Bureau of Prisons (N1-129-00-9, 5 items, 5 temporary items). Records relating to health services, including documentation of staff exposure to blood-borne pathogens, information regarding continuing staff medical education, and data tracking the cost of medical care provided both inside and outside of the correctional facility. Also included are electronic copies of documents created using electronic mail and word processing.

12. Department of Justice, Federal Bureau of Prisons (N1-129-00-10, 3 items, 3 temporary items). Records relating to employee development consisting of files documenting instructors' teaching qualifications and memoranda of understanding relating to cooperative agreements with other Federal agencies and local or state governmental bodies. Also included are electronic copies of documents created using electronic mail and word processing.

13. Department of Justice, Federal Bureau of Prisons (N1-129-00-11, 13 items, 13 temporary items). Records relating to food service programs. Included are such records as menus, nutrition reports, staff meeting minutes, survey reports, training reports, work orders, requisitions, inspection forms, and meal receipts. Also included are electronic copies of documents created using electronic mail and word processing.

14. Department of Justice, Immigration and Naturalization Service (N1-85-99-3, 5 items, 1 temporary item). Draft decisions from 1954 released for public review prior to their adoption that do not reflect final decisions and do not include public comments. Proposed for permanent retention are such records as policy/subject correspondence files, 1957-1974, correspondence pertaining to agency policy, 1929-1944, and files relating to Hungarian refugee programs, 1956-1957.

15. Department of the Treasury, Office of the Assistant Secretary for Enforcement (N1-56-00-1, 2 items, 2 temporary items). Electronic copies of records created using word processing and electronic mail that are associated with intelligence reports that relate to the agency's Financial Crimes Enforcement Network. This schedule also increases the retention period for recordkeeping copies of these files, which were previously approved for disposal.

16. Department of the Treasury, Office of the Inspector General (N1-56-00-2, 20 items, 16 temporary items). Investigative and audit case files, legal opinion background files, litigation case files, Office of Counsel subject files, Inspector General subject files, and tracking systems for case files. Also included are electronic copies of documents created using electronic mail and word processing. Recordkeeping copies of legal opinions and significant investigative and audit case files are proposed for permanent retention.

17. Department of the Treasury, Office of the Comptroller of the Currency (N1-101-97-2, 8 items, 6 temporary items). Electronic systems relating to bank supervision activities. Included are inputs, outputs, master files, and system documentation for the Corporate Activities Information System, the Fair Housing Loan Data System, and the Shared National Credit System. The Institution Database, a centralized electronic information system relating to national banks, and the related system documentation are proposed for permanent retention.

18. Department of the Treasury, Bureau of the Public Debt (N1-53-00-1, 5 items, 5 temporary items). Records relating to personnel matters, including on-the-spot awards, personnel listings, Combined Federal Campaign authorizations, and applications for outstanding scholar programs. Also included are electronic copies of documents created using word processing and electronic mail.

19. Department of the Treasury, Bureau of the Public Debt (N1-53-00-2, 1 item, 1 temporary item). Employee exit clearance forms that pertain to staff separating from the agency.

20. Department of the Treasury, Bureau of the Public Debt (N1-53-00-3, 4 items, 3 temporary items). Records of the Office of the Commissioner relating to savings bonds, including correspondence, circulars, internal memorandums, and specimen security receipts. Also included are electronic copies of documents created using electronic mail and word processing. Recordkeeping copies of significant program files, including official issuances, press releases, and legal opinions, are proposed for permanent retention.

21. Environmental Protection Agency, Pesticides Program (N1-412-00-3, 3 items, 1 temporary item). Software associated with the Compliance Activity Tracking System (CATS). This electronic system contains data concerning state inspections of businesses that produce, sell, or use pesticides. The master data file for CATS and the supporting documentation for the system are proposed for permanent retention.

22. Federal Communications Commission, Compliance and Information Bureau (N1-173-98-7, 3 items, 3 temporary items). Records relating to public inquiries received by the agency's telephone call center and the responses given, including statistical reports.

23. Federal Communications Commission, Offices of the Chairman and Commissioners (N1-173-98-8, 11 items, 7 temporary items). Routine correspondence files including invitations and reference materials, staff calendars, travel schedules, working files, biographies, photographs, and speeches. Substantive correspondence and subject files of the Chairman and Commissioners and their calendars are proposed for permanent retention.

24. National Archives and Records Administration, Office of the Inspector General (N1-64-00-4, 5 items, 5 temporary items). Audit case files and investigative case files relating to agency programs, operations, procedures, external audits of contractors and grantees, and employee and Hotline complaints. Included are audit reports, correspondence, memoranda, investigative reports, notes, attachments, working papers, and electronic copies of documents created using electronic mail and word processing. Significant investigative case files will be evaluated for permanent retention on a case by case basis.

25. Tennessee Valley Authority, Offices of the Chairman and Board of Directors (N1-142-99-2, 4 items, 2 temporary items). Paper copies of records of the Chairman and Directors for which optical images have been created. Information that has been converted to optical images is proposed for permanent retention and will be transferred to the National Archives in a format that meets the requirements for archival records in effect at the time of transfer.

26. Tennessee Valley Authority, Office of the Inspector General (N1-142-99-5, 9 items, 7 temporary items). Records generated during audits of agency operations and investigations of alleged violations of regulations and laws and of fraud, waste, and abuse are proposed for disposal. Also included are electronic copies of documents created using electronic mail and word processing. Recordkeeping files pertaining to significant investigations and final reports of significant audits are proposed for permanent retention.

Dated: March 15, 2000.
Michael J. Kurtz,
Assistant Archivist for Record Services—Washington, DC.

[FR Doc. 00-7057 Filed 3-21-00; 8:45 am]

BILLING CODE 7515-01-P